DEPARTMENT OF LABOR

Employment and Training Administration

[TA-W-70,641]

Best Textiles International Ltd, New York, NY; Notice of Termination of Investigation

Pursuant to Section 223 of the Trade Act of 1974, as amended, an investigation was initiated on May 27, 2009 in response to a worker petition filed by the State of Georgia Employment and Training Consultant on behalf of workers of Best Textiles International LTD, New York, New York.

The petition regarding the investigation has been deemed invalid. State agency representatives cannot file petitions for workers located in another state. Consequently, the investigation has been terminated.

Signed at Washington, DC, this 19th day of June 2009.
Richard Church,
Certifying Officer, Division of Trade Adjustment Assistance.

[FR Doc. E9-15756 Filed 7-2-09; 8:45 am]

BILLING CODE 4510-FN-P